DEPARTMENT OF JUSTICE

National Institution of Corrections

Solicitation for a Cooperative Agreement: Implementing Effective Correctional Management of Offenders in the Community

AGENCY: National Institute of Corrections, Department of Justice.

ACTION: Solicitation for a Cooperative Agreement.

[The National Institute of Corrections awards cooperative agreements to fund the planning, development and implementation of its strategic plan. Unlike grants and other types of funding, cooperative agreements require that NIC work closely with awardee to achieve the stated goals. Announcements for cooperative agreements are posted in the Federal Register and on the NIC Web site: www.nicic.org.]

Overview: Since the mid 1990's the National Institute of Corrections (NIC) has promoted an awareness of evidence-based correctional practices that promote pro-social behavior by offenders and reduce victimization. These practices, based on cognitive behavioral and social learning theories, have become adopted internationally under the terminology of “What Works”.

NIC is seeking an organization (awardee) to work with the Institute to implement effective interventions in selected statewide correctional systems over a four federal fiscal-year period, based on availability of funds and the awardee's satisfactory performance. For the purpose of this document, statewide systems are defined as state agency(s) or organization of county government agencies covering all geographic regions of the state with continuous custody and supervision of offenders for the full term of their legal disposition. The project will also include appropriate external stakeholders involved with offenders during the period of legal disposition. The awardee must possess a working knowledge of the research, principles and practices associated with effective interventions (including special needs and various responsivity issues), and organizational change.

Working jointly with the NIC—Community Corrections Division, the awardee will help market the program to all 50 states and the District of Columbia, assist with the development of criteria for selection, assess organizational readiness based on each state's application, and recommend the statewide systems that can be assisted at one time given the available resources. Once the target jurisdictions have been selected, the awardee will assist the state systems in conducting an in-depth self-assessment of their current status and readiness to change regarding evidence based practice. The awardee will assist the state system in preparing an organizational change and development plan for the implementation of effective strategies for the management of offenders. The implementation strategy will include leadership identification, role definition, a full continuum of program components and staff competency development at all levels of the organization. NIC and the awardee will work with selected systems for up to three years as long as they are making progress with their planned implementation.

Background: The elements of responsible, informed and effective correctional practice are no longer regarded as opinion but are grounded in evidence. In recent years, a large body of research, referred to as the “What Works” literature has identified the common characteristics of successful intervention. The characteristics of effective interventions include:

1. Support by community and policymaker partnerships.

2. Support by qualified and involved leadership who understand program objectives.

3. Design and implementation based on proven theoretical models beginning with assessment and continuing through aftercare.

4. Use of standardized and objective assessments of risk and need factors to make appropriate program assignment for offenders.

5. Targeting of crime-producing attributes and use of proven treatment models to prepare offenders for return into the community.

6. Delivery in a manner consistent with the ability and learning style of the individuals being treated.

7. Implementation by well-trained employees or contractors who deliver proven programs as designed.

8. Evaluations to ensure quality.

9. Targeting high-risk offenders.

It is worthy to note in regard to evidence based practice that ‘evidence based’ means a process of testing theories and practice, never intended to be a closed body of knowledge and always open to new information.

Success in offender change requires an agency infrastructure with an informed, supportive leadership and culture that models the principles and practices of the research based, data driven service approaches. Optimum outcomes are dependent upon the full range of staff competency; knowledge, skill, experience, aptitude, and attitude in service delivery. An organization's decision making, personnel practices, problem solving, and all other functions related to intervention must be evaluated and measured against evidence based standards. Administration must understand, serve, and support the vision, principles, and practices of evidence-based programming if it is to be successful. Similarly, criminal justice partners entrusted with autonomous authority and/or control, i.e., paroling authorities, law enforcement agencies, the judiciary, and independent service providers both public and private must also understand the responsibilities and boundaries appropriate to evidence-based practice and their respective roles in successful offender change. Although there are many aspects of offender change that are now clearly based on evidence, the successful awardee must demonstrate the process by which they will build consensus within statewide systems. This is particularly important in regard to the various stakeholders and autonomous bodies associated with the full process of offender change.

Many local jurisdictions have come to accept the elements of effective intervention, while they remain frustrated in their ability to combine these “best practices” into an integrated system of services that form a continuum from assessment through aftercare. Systematically integrating the various elements of effective offender intervention requires many non-traditional approaches to service delivery. The successful awardee will be required to demonstrate an understanding of the process and problems associated with assisting agencies to move from traditional to non-traditional approaches. Particularly those non-traditional approaches associated with custody and administrative involvement in offender intervention practices. The successful awardee will work with the NIC to insure that appropriate non-traditional approaches are identified and addressed.

Purpose: Because correctional administrators are increasingly expected to reduce, not just control, risk they must introduce the wide range of correctional practices already mentioned. The purpose of the project is to allow jurisdictions committed to the principles of effective intervention but facing challenges in initiating and sustaining corresponding systematic change to receive the assistance they need to produce intended results. The overriding goal of the agreement is to implement evidence-based program and management practices, and to develop an organizational culture that promote pro-social behavior in offenders and reduces victimization. This project will provide technical assistance to address the variety of complex needs inherent in developing and implementing research based approaches to effective intervention. The project will support the type of multi disciplinary and collaborative effort shown to be most effective in enhancing and sustaining the desired changes in practices. In that these intervention strategies are in many cases non-traditional this project will also address issues that develop as individual program elements and are then to be integrated into the system.

Application Requirements: Applicants must submit using OMB Standard Form 424, Federal Assistance and attachments. The applications must be concisely written, typed double spaced and referenced to the project by the numbered title given in this announcement. Applicants must prepare a proposal that describes their plan to address the project purpose and objectives. The plan must include methodology, deliverables, management plan, and an overall project budget for the full duration of the project. The management plan and budget for the initial 15 months should be extensively detailed. The management plans and budgets for subsequent 12 month periods are expected to be less detailed given the greater the lead time projected. Applicants must identify their key project staff, the amount of time projected for this initiative and the relevant expertise and experience of each, as well as the manner in which they would perform all tasks in collaboration with an NIC Project Manager.

The proposal must include the following six elements;

1. A description of the process and content of the applicants approach to a comprehensive assessment of a jurisdiction that will obtain a clear understanding of the current status of the organization in regard to the principles of effective intervention including the steps necessary for development, implementation and program evaluation and assessment of the organizational culture in relationship to supporting change;

2. A description of the process to be used in assisting the selected state systems in developing a plan for creating and/or further developing system-wide delivery of essential evidence based principles and practices including; offender assessment, cognitive-behavioral/social learning curriculums, and quality assurance as well as management processes and leadership initiatives that support such practices (Each of these items should be addressed separately and with sufficient detail to effectively communicate both content and process.);

3. A description of the process for ongoing development and program modifications, include content and process for system evaluation;

4. A description of the process and methods to be used to build workgroups and leadership teams, include process and methods to be used to ensure the organizational culture supports the principles and practices of intervention;

5. A description of a reporting process for both the selected state systems and the awardee; and

6. An estimated budget based on the above elements. Given the estimated budget and appropriation parameters outlined below applications will also include an estimated number of state systems that should be able to receive assistance.

Authority: Public Law 93-415

Funds Available: The award will be limited to $100,000 from Fiscal Year 2002. In addition there will be a $300,000 per year from Fiscal year 2003 thru 2005 for an anticipated total of $1 million over the full term of the initiative, dependent upon yearly funding received by NIC and the performance of the awardee. This funding will cover both direct and indirect costs. NIC plans to make an initial award in the Fiscal Year 2002 followed by supplemental awards for year 2003-2005. Funds may only be used for activities that are linked to the desired objectives and outcomes of the project. This project will be a collaborative venture with the selected state systems, the awardee and the NIC—Community Corrections Division. All products from this funding effort will be in the public domain and available to interested agencies through the NIC. No funds are transferred to state or local governments. Nothing contained herein shall be construed to obligate the parties to any expenditure or obligation of funds in excess or in advance of appropriation in accordance with the Antideficiency Act, 31 U.S.C. 1341.

Deadline for Receipt of Applications: All applications should be submitted in one original and 5 copies and must be received no later than 4 p.m., Friday, June 21, 2002. At least one copy must have the applicant's original signature in blue ink. A cover letter must identify the responsible audit agency for the applicant's financial accounts. The NIC application number should be written on the outside of the mail or courier envelop. Applicants are encouraged to use Federal Express, UPS, or similar service to ensure delivery by the due date as mail at the national Institute of Corrections is still being delayed due to recent events. Applications mailed or submitted by express delivery should be sent to: National Institute of Corrections, 320 First Street, NW., Room 5007, Washington, DC 20534, Attn: Director. Hand delivered applications can be brought to 500 First Street, NW., Washington, DC 20534. The security office will call our front desk at (202) 307-3106 to come to the security desk for pickup. Faxed or e-mailed applications will not be accepted.

Addresses and Further Information: A copy of this announcement and the required application forms can be downloaded from the NIC web page at www.nicic.org (Click on Cooperative Agreements). Any specific questions regarding the application process or a request for a hard copy of the announcement should be directed to Judy Evens, Cooperative Agreement Control Office, National Institute of Corrections, 320 First Street, NW., Room 5007, Washington, DC 20534 or by calling 800-995-6423 ext. 44222, metro area 202-307-3106, ext. 44222, or e-mail: jevens@bop.gov. All technical and/or programmatic questions concerning this announcement should be directed to Mark Gornik at National Institute of Corrections, 320 First Street, NW., Room 5007, Washington, DC 20534 or by calling 800-995-6423 ext 43066 metro area 202-514-3066 or by e-mail: mgornik@bop.gov.

Eligible Applicants: An eligible applicant is any private group of individuals, company, organization, educational institution, individual or team with the requisite skills necessary to successfully meet the outcome objectives of the project. Such requisite skills must include but are not limited to expertise in the principles of effective intervention for offenders as referenced in “What Works” literature. Requisite skills must also include knowledge of correctional operations with particular attention to offender assessment, cognitive-behavioral/social learning, and evaluation methods and the application of such elements into a coordinated management process. The ability to promote organizational development and readiness to change within a “What Works” context is also required.

Review Considerations: Applications received under this announcement will be subjected to an NIC Peer Review Process.

Number of Awards: One (1).

NIC Application Number 02C05: This number should appear as a reference line in the cover letter and also in box 11 of Standard Form 424 and on the outside of the envelope in which the application is sent.

Executive Order: This program is subject to the provisions of Executive Order 12372. Executive Order 12372 allows States the option of setting up a system for reviewing applications from within their States for assistance under certain Federal programs. Applicants (other than Federally-recognized Indian Tribal Governments) should contact their State Single Point of Contact (SPOC), a list of which is included in the application kit (and the web page) along with further instructions on proposed projects serving more than one State.

Catalog of Federal Domestic Assistance Number: 16.603
Technical Assistance/Clearinghouse.
Dated: April 24, 2002.
Morris L. Thigpen,
Director, National Institute of Corrections.

[FR Doc. 02-10697 Filed 4-30-02; 8:45 am]

BILLING CODE 4410-36-M